DEPARTMENT OF COMMERCE

International Trade Administration

[A-570-905]

Certain Polyester Staple Fiber From the People's Republic of China: Rescission of 2017-2018 Antidumping Duty Administrative Review

AGENCY: Enforcement and Compliance, International Trade Administration, Department of Commerce.

SUMMARY: The Department of Commerce (Commerce) is rescinding the administrative review of the antidumping duty order on certain polyester staple fiber (PSF) from the People's Republic of China (China) for the period of review (POR) June 1, 2017 through May 31, 2018.

DATES: Applicable June 12, 2020.

FOR FURTHER INFORMATION CONTACT: Annathea Cook, AD/CVD Operations, Office V, Enforcement and Compliance, International Trade Administration, U.S. Department of Commerce, 1401 Constitution Avenue NW, Washington, DC 20230; telephone (202) 482-0413.

SUPPLEMENTARY INFORMATION:

Background

On June 1, 2018, Commerce published a notice of opportunity to request an administrative review of the antidumping duty order on PSF from China for the period of June 1, 2017 through May 31, 2018.¹ On June 29, 2018, Commerce received a timely request for review from Yangzhou Tinfulong New Technology Fiber Co., Ltd. (Tinfulong).² On August 10, 2018, based on Tinfulong's request, Commerce published in the Federal Register a notice of initiation of an administrative review.³ On September 10, 2018, Tinfulong submitted a timely withdrawal of its request for an administrative review.⁴

¹ See Antidumping or Countervailing Duty Order, Finding, or Suspended Investigation; Opportunity to Request Administrative Review, 83 FR 25429 (June 1, 2018).

² See Tinfulong's Letter, “Polyester Staple Fiber from the People's Republic of China: Request for Administrative Review,” dated June 29, 2018.

³ See Initiation of Antidumping and Countervailing Duty Administrative Reviews, 83 FR 39688 (August 10, 2018) (Initiation Notice).

⁴ See Tinfulong's Letter, “Polyester Staple Fiber from the People's Republic of China: Withdrawal of Review Request,” dated September 10, 2018.

Rescission of Review

Pursuant to 19 CFR 351.213(d)(1), Commerce will rescind an administrative review, in whole or in part, if the party that requested the review withdraws its request within 90 days of the publication of the notice of initiation of the requested review. Tinfulong withdrew its request for review within 90 days of the date of publication of the Initiation Notice. As such, Commerce received a timely request for withdrawal of the instant administrative review with respect to the single company listed in the Initiation Notice. Accordingly, we are rescinding the administrative review of PSF from China for the period of June 1, 2017 through May 31, 2018, in its entirety.

Assessment

Commerce will instruct U.S. Customs and Border Protection (CBP) to assess antidumping duties on all appropriate entries of PSF from China at rates equal to the cash deposit of estimated antidumping duties required at the time of entry, or withdrawal from warehouse, for consumption, in accordance with 19 CFR 351.212(c)(1)(i). Commerce intends to issue appropriate assessment instructions to CBP 15 days after the publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Order

This notice also serves as a final reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

Notification to Interested Parties

This notice is issued and published in accordance with sections 751(a)(1) and 777(i)(1) of the Tariff Act of 1930, as amended, and 19 CFR 351.213(d)(4).

Dated: June 9, 2020.
James Maeder,
Deputy Assistant Secretary for Antidumping and Countervailing Duty Operations.

[FR Doc. 2020-12751 Filed 6-11-20; 8:45 am]

BILLING CODE 3510-DS-P